DEPARTMENT OF TRANSPORTATION

Federal Highway Administration

[FHWA Docket No. FHWA-2006-23550]

Interstate Oasis Program

AGENCY: Federal Highway Administration (FHWA), DOT.

ACTION: Notice; request for comments.

SUMMARY: The FHWA is soliciting comments on a proposed Interstate Oasis program. Specifically, section 1310 of the Safe, Accountable, Flexible, Efficient Transportation Equity Act: A Legacy for Users (“SAFETEA-LU”, Pub. L. 109-59, enacted August 10, 2005), requires the Secretary of Transportation to develop standards for designating certain facilities as Interstate Oases and to design a uniform logo for such designated facilities. The FHWA has developed a preliminary framework for an Interstate Oasis program and is seeking public comments in order to refine and finalize the program.

DATES: Comments must be received on or before April 28, 2006.

ADDRESSES: Mail or hand deliver comments to the U.S. Department of Transportation, Dockets Management Facility, Room PL-401, 400 Seventh Street, SW., Washington, DC 20590-0001, or submit electronically at http://dms.dot.gov/submit, or fax comments to (202) 493-2251. All comments should include the docket number that appears in the heading of this document. All comments received will be available for examination and copying at the above address from 9 a.m. to 5 p.m., e.t., Monday through Friday, except Federal holidays. Those desiring notification of receipt of comments must include a self-addressed, stamped postcard or you may print the acknowledgement page that appears after submitting comments electronically. Anyone is able to search the electronic form of all comments received into any of our dockets by the name of the individual submitting the comments (or signing the comment, if submitted on behalf of an association, business, labor union, etc.). You may review DOT's complete Privacy Act Statement in the Federal Register published on April 11, 2000, (Volume 65, Number 70, Pages 19477-78) or you may visit http://dms.dot.gov.

FOR FURTHER INFORMATION CONTACT: Mr. Hari Kalla, (202) 366-5915, Office of Transportation Operations, HOTO, or Mr. Robert Black, Office of the Chief Counsel, HCC-30, (202) 366-1359. Office hours are from 7:45 a.m. to 4:15 p.m., e.t., Monday through Friday, except Federal holidays.

SUPPLEMENTARY INFORMATION:

Electronic Access and Filing

You may submit or retrieve comments online through the Document Management System (DMS) at: http://dms.dot.gov/submit. The DMS is available 24 hours each day, 365 days each year. Electronic submission and retrieval help and guidelines are available under the help section of the Web site.

An electronic copy of this document may also be downloaded from the Office of the Federal Register's home page at: http://www.archives.gov and the Government Printing Office's Web page at: http://www.access.gpo.gov/nara.

Background

In response to a provision in the Joint Explanatory Statement of the Committee of Conference (House Report 106-355) that accompanied the Department of Transportation and Related Agencies Appropriations Act, 2000 (Pub. L. 106-69, 113 Stat. 986), the FHWA has been in the process of investigating a number of issues relating to rest areas on the Interstate System. Of particular concern is that States are considering closing or privatizing rest areas on Interstate highways because of the costs of maintenance and operation, security issues, and potential liability. Insufficient truck parking has also been found to be a significant problem in some States at rest areas on the Interstate system, on local road systems near interchanges with Interstate highways, and at adjoining businesses. Commercialization of existing Interstate highway public rest areas to allow private firms to provide services such as those found in “service plazas” on many toll roads and turnpikes, in exchange for private responsibility for maintenance and operation of the rest areas, has been advocated by some States and by the American Association of State Highway and Transportation Officials (AASHTO). However, such commercialization is not authorized by current laws and regulations and is strongly opposed by business interests located off the Interstate system.

The designation of certain privately owned facilities off the Interstate system, such as commercial truck stops, under public-private partnership agreements, has been identified as a potential alternative to address road user needs in lieu of commercialization of Interstate rest areas and as a possible way to provide motorist services as well as help address shortages of truck parking. Such private facilities would be required to meet certain minimum standards and signing would be provided on the highway to lead road users to these facilities. The FHWA has identified two States, Utah and Vermont, that have programs in operation for designation of and signing to such off-Interstate facilities, and a third State, Louisiana, that has developed the framework for such a program but has not implemented it.

In August 2005, SAFETEA-LU was enacted. Section 1310 of SAFETEA-LU, entitled “Interstate Oasis Program”, requires FHWA to establish an Interstate Oasis program and, after providing an opportunity for public comment, develop standards for designating as an Interstate Oasis a facility that, as a minimum, offers products and services to the public, 24-hour access to restrooms, and parking for automobiles and heavy trucks. Section 1310 also requires the standards for designation as an Interstate Oasis to include the “appearance of a facility” and the proximity of the facility to the Interstate system, and requires FHWA to design a logo to be displayed by a designated Interstate Oasis facility. Further, section 1310 requires that, if a State elects to participate in the Interstate Oasis program, any facility meeting the standards for designation shall be eligible for designation as an Interstate Oasis.

A related provision of SAFETEA-LU, section 1305, authorized a separate program to provide Federal funding for building, expanding, or improving truck parking facilities along the National Highway System. The FHWA plans to issue a separate notice in the Federal Register to announce this program and solicit applications for use of the available funding. The FHWA will closely coordinate the section 1305 and section 1310 programs to assure they are compatible and complementary to each other in serving the public need.

Description of Proposed Interstate Oasis Program

The FHWA has developed a preliminary framework for an Interstate Oasis program that FHWA believes is responsive to the requirements in section 1310 of SAFETEA-LU. Figures will be developed and sign numbers will be designated at a later date to illustrate certain signing elements after they are finalized. Therefore, figure numbers included in the draft text of the program document are left blank at this time, and sign numbers are general and not specific. The draft text of the program document is as follows:

“An Interstate Oasis shall be defined as a facility near an Interstate highway, but not within the Interstate right-of-way, designated by a State after meeting certain eligibility criteria, that provides products and services to the public, 24-hour access to public restrooms, and parking for automobiles and heavy trucks.

Interstate Oasis facilities shall comply with laws concerning:

1. The provisions of public accommodations without regard to race, religion, color, age, sex, national origin, or disability; and

2. The State and local licensing and approval of such service facilities.

If a State elects to provide Interstate Oasis signing, there should be a statewide policy, program, procedures, and criteria for the designation and signing of a facility as an Interstate Oasis. To qualify for designation and signing as an Interstate Oasis, a business should, at a minimum:

1. Be located no more than 3 miles from an interchange with an Interstate highway, except a lesser distance may be required when State laws restrict truck travel to lesser distances from the Interstate system;

2. As determined by an engineering study, be accessible via highways that are unrestricted as to vehicle weight or vehicle type, size, or weight and from which road users can safely and conveniently travel to the facility, enter and leave the facility, return to the Interstate highway, and continue in the same direction of travel;

3. As determined by an engineering study, have physical geometry of site layout and driveway access to safely and efficiently accommodate ingress, on-site travel, maneuvering, and parking, and egress by all vehicles, including heavy trucks of the size and weight anticipated to use the facility;

4. Have modern sanitary facilities (rest rooms) and drinking water, available to the public at no charge or obligation at all times (24 hours per day, 365 days per year);

5. Have adequate and well lit parking accommodations for vehicles, including heavy trucks, with maximum allowed parking duration not less than 10 hours, to meet demands based on volumes, the percentage of heavy vehicles in the Interstate highway traffic, and other pertinent factors;

6. Be staffed by at least one person on duty at all times (24 hours per day, 365 days per year); and

7. Provide, at a minimum, the following products and services:

a. Public telephone;

b. Food (vending, snacks, fast food, and/or full service); and

c. Fuel, oil, and water for automobiles and trucks.

Statewide criteria may impose additional minimum requirements, beyond those listed above, determined necessary by the State to promote and enhance road user safety, efficiency, and productivity. If a State elects to provide Interstate Oasis signing, any facility meeting the State's minimum criteria shall be eligible for designation as an Interstate Oasis.

Signing to denote the availability of an Interstate Oasis at an interchange, to guide road users to an Interstate Oasis, or to designate a business as an Interstate Oasis should incorporate the Interstate Oasis symbol depicted in Figure “X”. [Figure to be developed and numbered later.]

States electing to provide Interstate Oasis signing should use only one of the following signing practices on the freeway for any given exit:

1. If Specific Service signing (See MUTCD Chapter 2F) is provided at the interchange, a 12-inch diameter circular “patch” containing the Interstate Oasis symbol may be located in the lower right-hand corner of the specific service logo panel for the designated business in a manner in which it touches both the specific service logo and the blue sign panel; or

2. If General Service signing (See MUTCD Figures 2E-41 and 2E-42) is provided at the interchange, the Interstate Oasis General Service Sign (D9-x) may be included on or appended above or below an existing D9-18, D9-18a, or D9-18e General Service sign; or

3. If no other service signing is provided at the interchange, the Interstate Oasis General Service Sign (D9-x) may be appended above or below an existing ground mounted Advance Guide or Exit Direction sign, or a separate D9-y sign, incorporating both the Interstate Oasis symbol and the legend “Interstate Oasis” may be installed in an effective location, between the Advance Guide sign and the Exit Direction sign and with adequate spacing from other adjacent signs, in advance of the exit leading to the Oasis. The D9-y sign shall have a blue background and white border and legend and shall contain an action message such as “NEXT EXIT” for unnumbered interchanges or, for numbered interchanges, the exit number as illustrated in Figure “Y”. [Figure to be developed and numbered later.]

Signing should be provided near the exit ramp terminal and along the cross road to guide road users from the interchange to the Interstate Oasis and back to the interchange.”

Discussion of Proposed Interstate Oasis Program

The FHWA believes that the draft text stated above meets the intent and the specific requirements of section 1310 of SAFETEA-LU and enhances the safety, efficiency, and productivity of the highway system and its users. It would establish minimum criteria meeting the needs of travelers on the Interstate highway system in a manner that any State could implement despite wide varieties in existing conditions and needs from State to State. Similar to criteria for businesses to be eligible for Specific Services signing, detailed in Chapter 2F of the Manual on Uniform Traffic Control Devices (MUTCD), States could decide to impose additional criteria, beyond the minimum national criteria, that they deem appropriate for their State.

Section 1310 specifically states that the standards for designation of an Interstate Oasis shall include standards relating to “the appearance of a facility.” The FHWA does not believe that it is feasible to prescribe uniform nationwide standards for facility appearance, in terms of building design, site layout, or other potential elements of appearance. The FHWA believes that the minimum eligibility criteria, plus the use of a standard nationwide Interstate Oasis symbol (logo) on official traffic signs and on private business signing of designated facilities, will meet the intent of assuring that travelers can readily identify the specific locations of facilities meeting the required criteria.

The proposed Interstate highway signing requirements for exits providing access to an Interstate Oasis generally follow the principles of General Services and Specific Services signing, as established in Part 2 of the MUTCD, and the FHWA's Interim Approval dated September 6, 2005, for use of “RV Friendly” symbol “patches” on Specific Services signs. The complete MUTCD and FHWA's September 6, 2005, Interim Approval can be accessed at FHWA's MUTCD Web site at http://mutcd.fhwa.dot.gov. Proposed sign numbers and figure numbers in the draft text are indeterminate at this time and will be finalized in the completed document.

Specific Questions on Which FHWA Is Seeking Comments

The FHWA is requesting comments on this proposed Interstate Oasis program as described above. The FHWA is also seeking comments and input regarding several specific questions to help refine and finalize the program:

1. Is 3 miles an appropriate maximum distance from the interchange? The maximum distance specified in MUTCD Section 2F.01 for specific services is 3 miles. If the concept of identifying an Interstate Oasis by adding a “patch” to the Specific Service logo panel is used, consistency in the distance policies may be needed. States would have the flexibility to require a closer distance in their State policies, especially if a State's laws limit certain trucks to a lesser distance when traveling off the Interstate system. However, in some sparsely populated areas, it may be difficult to find any facilities within 3 miles that would qualify as an Interstate Oasis along very long sections of Interstate highways. Should States have the flexibility to extend the 3-mile maximum (as they can do for existing Specific Services) in cases such as this?

2. Should the criteria for safe and convenient access to and from a potential Interstate Oasis facility, and for adequate on-site geometry, be more specific, or is it sufficient to require the States to perform an engineering study to make these determinations?

3. Should the minimum national criteria require a specific minimum number of parking spaces for cars and/or heavy trucks, or a specific minimum percentage of total spaces that must be designed for use by heavy trucks? If so, what should those numbers be and on what basis or rationale are they recommended?

4. Are there other products and services beyond those listed that are essential for inclusion in the minimum national criteria for designation as an Interstate Oasis? States will have the flexibility to add their own requirements for products and/or services beyond the national minimums. However, States will not have the ability to waive any required products or services contained in the minimum national criteria.

5. Should States have the flexibility to designate and sign an exit for an Interstate Oasis if all the criteria cannot be met by any one business at the exit, but the combination of two or more businesses in close proximity to each other do meet the criteria? For example, one particular business may meet all criteria except offering fuel, but fuel is continuously available from another nearby business. In areas where no public rest areas are available for very long distances along the Interstate highway, would allowing States this flexibility for Interstate Oasis designation better serve the public need?

6. What symbol (logo) should be used to indicate an Interstate Oasis? The symbol must be simple, conspicuous and legible from a long distance at freeway speeds, and easily understood. It must also be capable of being displayed by designated businesses on their facilities and on their private signing.

7. If a State provides separate signing, such as “Interstate Oasis Next Exit”, advising road users of the availability of an Interstate Oasis at an interchange, should the business designated as an Interstate Oasis be disqualified from having business logos on Specific Service signs for gas, food, etc. at that interchange? Conversely, should the States have the flexibility to include the name and/or business logo of the designated business on the separate signing, such as “Interstate Oasis—Business Name/Logo—Next Exit”?

8. Assuming proper marketing and public education, will the name “Interstate Oasis” be readily understood by the public and identified with the type of service offered? Utah and Vermont use the names “Rest Stop” and “Rest Exit,” respectively, for the types of facilities contemplated under the Interstate Oasis program. Would the Vermont or Utah names, or other names, better serve the public, and if so, what names are suggested and why?

9. What educational and marketing efforts would be necessary to familiarize travelers and businesses with this program?

Comments regarding the program and/or the questions listed above should clearly state the reasoning behind the responses. After receiving and considering comments submitted to the docket in response to this Notice, the FHWA may issue a policy memorandum detailing the Interstate Oasis program. The FHWA also may propose revising the MUTCD via the normal formal rulemaking process, to add pertinent standards, guidance, and options regarding Interstate Oasis signing in a future edition of the MUTCD.

Authority: Sec. 1305, Pub. L. 105-59, 119 Stat. 1144; 23 U.S.C. 109(d), 315, and 402; 23 CFR 1.32 and 655.603; and 49 CFR 1.48(b).

Issued on: February 16, 2006.
J. Richard Capka,
Acting Federal Highway Administrator.

[FR Doc. E6-2682 Filed 2-24-06; 8:45 am]

BILLING CODE 4910-22-P